DEPARTMENT OF ENERGY

Federal Energy Regulatory Commission

18 CFR Part 11

[Docket No. RM11-6-000]

Annual Update to Fee Schedule for the Use of Government Lands by Hydropower Licensees

AGENCY: Federal Energy Regulatory Commission, DOE.

ACTION: Final rule.

SUMMARY: In accordance with of the Commission's regulations, the Commission, by its designee, the Executive Director, issues this annual update to the fee schedule in Appendix A to Part 11, which lists per-acre rental fees by county (or other geographic area) for use of government lands by hydropower licensees.

DATES: This rule is effective February 24, 2016. Updates to Appendix A to Part 11 with the fee schedule of per-acre rental fees by county (or other geographic area) are applicable from October 1, 2015, through September 30, 2015 (Fiscal Year 2016).

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION:

Annual Update to Fee Schedule

Issued February 18, 2016

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This notice updates the fee schedule in Appendix A to Part 11 for fiscal year 2016 (October 1, 2015, through September 30, 2016).

¹ Annual Charges for the Use of Government Lands, Order No. 774, 78 FR 5256 (January 25, 2013), FERC Stats. & Regs. ¶ 31,341 (2013).

² 18 CFR part 11 (2016).

Effective Date

This Final Rule is effective February 24, 2016. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Executive Director.
Anton C. Porter,
Executive Director, Office of the Executive Director.

In consideration of the foregoing, the Commission amends Part 11, Chapter I, Title 18, Code of Federal Regulations, as follows.

PART 11—[AMENDED]

1. The authority citation for Part 11 continues to read as follows:

Authority: 16 U.S.C. 792-828c; 42 U.S.C. 7101-7352.

2. Appendix A to Part 11 is revised to read as follows:

Appendix A to Part 11—Fee Schedule for FY 2016
State | County | Fee/ acre/ yr
Alabama | Autauga | $60.42
| Baldwin | 105.25
| Barbour | 59.80
| Bibb | 55.47
| Blount | 96.06
| Bullock | 57.58
| Butler | 64.23
| Calhoun | 80.55
| Chambers | 68.82
| Cherokee | 90.41
| Chilton | 77.55
| Choctaw | 49.52
| Clarke | 54.08
| Clay | 65.42
| Cleburne | 72.59
| Coffee | 69.71
| Colbert | 74.57
| Conecuh | 52.66
| Coosa | 54.81
| Covington | 59.63
| Crenshaw | 53.65
| Cullman | 110.44
| Dale | 66.37
| Dallas | 48.52
| DeKalb | 100.22
| Elmore | 83.96
| Escambia | 60.06
| Etowah | 94.11
| Fayette | 56.16
| Franklin | 55.63
| Geneva | 57.15
| Greene | 53.68
| Hale | 55.30
| Henry | 59.10
| Houston | 68.85
| Jackson | 69.08
| Jefferson | 119.20
| Lamar | 39.07
| Lauderdale | 78.54
| Lawrence | 80.89
| Lee | 99.83
| Limestone | 107.56
| Lowndes | 45.65
| Macon | 64.99
| Madison | 98.24
| Marengo | 47.14
| Marion | 58.74
| Marshall | 100.26
| Mobile | 107.43
| Monroe | 52.03
| Montgomery | 69.38
| Morgan | 98.70
| Perry | 46.41
| Pickens | 54.67
| Pike | 60.23
| Randolph | 74.31
| Russell | 59.80
| St. Clair | 101.51
| Shelby | 111.03
| Sumter | 37.62
| Talladega | 76.92
| Tallapoosa | 63.83
| Tuscaloosa | 78.41
| Walker | 68.16
| Washington | 44.66
| Wilcox | 44.49
| Winston | 68.79
Alaska | Aleutian Islands Area | 1.00
| Anchorage Area¹ | 164.97
| Fairbanks Area | 29.62
| Juneau Area¹ | 1,276.89
| Kenai Peninsula | 56.78
| All Areas | 10.01
Arizona | Apache | 3.05
| Cochise | 22.17
| Coconino | 3.30
| Gila | 5.18
| Graham | 9.14
| Greenlee | 24.70
| La Paz | 20.33
| Maricopa | 89.60
| Mohave | 7.63
| Navajo | 4.09
| Pima | 8.25
| Pinal | 37.64
| Santa Cruz | 24.17
| Yavapai | 24.94
| Yuma | 114.25
Arkansas | Arkansas | 55.82
| Ashley | 61.14
| Baxter | 56.14
| Benton | 93.34
| Boone | 54.14
| Bradley | 73.50
| Calhoun | 51.75
| Carroll | 53.51
| Chicot | 56.09
| Clark | 38.88
| Clay | 67.29
| Cleburne | 57.61
| Cleveland | 81.97
| Columbia | 45.41
| Conway | 54.46
| Craighead | 67.51
| Crawford | 63.16
| Crittenden | 58.46
| Cross | 53.51
| Dallas | 33.67
| Desha | 58.69
| Drew | 53.04
| Faulkner | 69.00
| Franklin | 47.93
| Fulton | 33.70
| Garland | 77.61
| Grant | 47.41
| Greene | 71.92
| Hempstead | 43.09
| Hot Spring | 54.04
| Howard | 49.62
| Independence | 44.07
| Izard | 37.17
| Jackson | 52.96
| Jefferson | 61.03
| Johnson | 50.62
| Lafayette | 42.57
| Lawrence | 56.25
| Lee | 58.85
| Lincoln | 58.82
| Little River | 35.38
| Logan | 47.27
| Lonoke | 58.53
| Madison | 57.19
| Marion | 42.38
| Miller | 41.80
| Mississippi | 59.96
| Monroe | 50.59
| Montgomery | 52.75
| Nevada | 39.93
| Newton | 46.43
| Ouachita | 46.88
| Perry | 51.30
| Phillips | 54.93
| Pike | 44.88
| Poinsett | 64.59
| Polk | 55.80
| Pope | 57.77
| Prairie | 52.64
| Pulaski | 72.35
| Randolph | 42.41
| St. Francis | 49.80
| Saline | 74.06
| Scott | 46.25
| Searcy | 35.09
| Sebastian | 56.04
| Sevier | 49.14
| Sharp | 38.25
| Stone | 41.07
| Union | 53.33
| Van Buren | 52.22
| Washington | 86.53
| White | 54.11
| Woodruff | 52.51
| Yell | 47.80
California | Alameda | 43.81
| Alpine | 34.05
| Amador | 31.23
| Butte | 60.33
| Calaveras | 25.90
| Colusa | 43.12
| Contra Costa | 66.89
| Del Norte | 69.20
| El Dorado | 65.32
| Fresno | 65.79
| Glenn | 36.46
| Humboldt | 20.51
| Imperial | 55.60
| Inyo | 6.18
| Kern | 35.21
| Kings | 47.89
| Lake | 48.34
| Lassen | 15.30
| Los Angeles | 98.92
| Madera | 60.45
| Marin | 49.45
| Mariposa | 16.70
| Mendocino | 31.86
| Merced | 61.43
| Modoc | 13.67
| Mono | 22.37
| Monterey | 38.84
| Napa | 173.09
| Nevada | 86.01
| Orange | 173.51
| Placer | 84.67
| Plumas | 14.10
| Riverside | 81.08
| Sacramento | 56.65
| San Benito | 22.58
| San Bernardino | 106.83
| San Diego | 142.62
| San Francisco | 1,001.26
| San Joaquin | 80.11
| San Luis Obispo | 33.45
| San Mateo | 89.71
| Santa Barbara | 58.47
| Santa Clara | 53.29
| Santa Cruz | 98.37
| Shasta | 22.24
| Sierra | 11.94
| Siskiyou | 16.19
| Solano | 44.12
| Sonoma | 116.08
| Stanislaus | 76.51
| Sutter | 52.55
| Tehama | 23.64
| Trinity | 9.05
| Tulare | 59.82
| Tuolumne | 36.77
| Ventura | 124.03
| Yolo | 44.80
| Yuba | 45.99
Colorado | Adams | 25.14
| Alamosa | 25.51
| Arapahoe | 29.49
| Archuleta | 37.59
| Baca | 9.74
| Bent | 8.14
| Boulder | 100.03
| Broomfield | 34.31
| Chaffee | 52.93
| Cheyenne | 13.61
| Clear Creek | 48.02
| Conejos | 26.56
| Costilla | 19.23
| Crowley | 5.99
| Custer | 26.65
| Delta | 58.09
| Denver | 949.16
| Dolores | 25.25
| Douglas | 87.91
| Eagle | 68.94
| Elbert | 21.14
| El Paso | 19.63
| Fremont | 40.94
| Garfield | 48.62
| Gilpin | 49.58
| Grand | 40.02
| Gunnison | 49.32
| Hinsdale | 92.64
| Huerfano | 15.12
| Jackson | 18.25
| Jefferson | 96.14
| Kiowa | 11.95
| Kit Carson | 19.82
| Lake | 32.51
| La Plata | 51.04
| Larimer | 53.95
| Las Animas | 7.09
| Lincoln | 8.36
| Logan | 15.21
| Mesa | 58.94
| Mineral | 76.01
| Moffat | 12.78
| Montezuma | 19.38
| Montrose | 50.26
| Morgan | 24.96
| Otero | 11.42
| Ouray | 49.71
| Park | 23.30
| Phillips | 31.68
| Pitkin | 97.97
| Prowers | 12.03
| Pueblo | 12.84
| Rio Blanco | 23.26
| Rio Grande | 41.37
| Routt | 38.81
| Saguache | 26.01
| San Juan | 22.40
| San Miguel | 25.51
| Sedgwick | 22.25
| Summit | 58.18
| Teller | 35.12
| Washington | 17.11
| Weld | 34.63
| Yuma | 23.98
Connecticut | Fairfield | 307.01
| Hartford | 319.64
| Litchfield | 288.14
| Middlesex | 355.76
| New Haven | 317.53
| New London | 261.16
| Tolland | 250.92
| Windham | 192.81
Delaware | Kent | 210.36
| New Castle | 261.29
| Sussex | 206.52
Florida | Alachua | 100.50
| Baker | 121.04
| Bay | 96.95
| Bradford | 78.07
| Brevard | 101.08
| Broward | 427.89
| Calhoun | 39.65
| Charlotte | 94.62
| Citrus | 123.63
| Clay | 65.72
| Collier | 83.70
| Columbia | 84.70
| DeSoto | 474.68
| Dixie | 87.69
| Duval | 73.61
| Escambia | 129.49
| Flagler | 91.12
| Franklin | 79.14
| Gadsden | 36.27
| Gilchrist | 82.72
| Glades | 62.22
| Gulf | 57.07
| Hamilton | 78.12
| Hardee | 53.89
| Hendry | 77.02
| Hernando | 75.76
| Highlands | 156.73
| Hillsborough | 54.85
| Holmes | 169.03
| Indian River | 52.70
| Jackson | 72.00
| Jefferson | 62.88
| Lafayette | 78.65
| Lake | 77.00
| Lee | 140.76
| Leon | 177.10
| Levy | 102.72
| Liberty | 111.52
| Madison | 50.51
| Manatee | 62.88
| Marion | 104.37
| Martin | 174.63
| Dade | 122.88
| Monroe | 354.34
| Nassau | 89.37
| Okaloosa | 67.73
| Okeechobee | 85.75
| Orange | 156.19
| Osceola | 73.71
| Palm Beach | 132.38
| Pasco | 126.27
| Pinellas | 562.81
| Polk | 102.32
| Putnam | 103.23
| St. Johns | 66.07
| St. Lucie | 89.88
| Santa Rosa | 146.99
| Sarasota | 122.42
| Seminole | 88.83
| Sumter | 99.89
| Suwannee | 74.94
| Taylor | 71.05
| Union | 66.73
| Volusia | 114.60
| Wakulla | 65.40
| Walton | 53.70
| Washington | 53.66
Georgia | Appling | 59.25
| Atkinson | 67.54
| Bacon | 73.30
| Baker | 69.47
| Baldwin | 61.94
| Banks | 139.03
| Barrow | 139.00
| Bartow | 112.11
| Ben Hill | 64.19
| Berrien | 67.13
| Bibb | 82.69
| Bleckley | 58.90
| Brantley | 73.20
| Brooks | 83.58
| Bryan | 74.21
| Bulloch | 61.28
| Burke | 57.00
| Butts | 88.16
| Calhoun | 55.45
| Camden | 55.17
| Candler | 60.29
| Carroll | 112.24
| Catoosa | 143.46
| Charlton | 51.63
| Chatham | 130.65
| Chattahoochee | 52.64
| Chattooga | 77.91
| Cherokee | 240.07
| Clarke | 142.92
| Clay | 41.85
| Clayton | 141.02
| Clinch | 68.58
| Cobb | 309.63
| Coffee | 66.62
| Colquitt | 74.34
| Columbia | 124.26
| Cook | 69.63
| Coweta | 125.08
| Crawford | 78.04
| Crisp | 52.89
| Dade | 80.03
| Dawson | 196.95
| Decatur | 72.32
| DeKalb | 70.35
| Dodge | 55.74
| Dooly | 59.35
| Dougherty | 82.94
| Douglas | 166.81
| Early | 54.35
| Echols | 66.78
| Effingham | 70.32
| Elbert | 89.52
| Emanuel | 53.97
| Evans | 65.48
| Fannin | 164.62
| Fayette | 154.63
| Floyd | 98.63
| Forsyth | 278.25
| Franklin | 136.98
| Fulton | 171.58
| Gilmer | 155.42
| Glascock | 46.76
| Glynn | 99.27
| Gordon | 121.41
| Grady | 77.88
| Greene | 81.65
| Gwinnett | 261.55
| Habersham | 145.42
| Hall | 207.84
| Hancock | 86.65
| Haralson | 106.61
| Harris | 121.54
| Hart | 131.12
| Heard | 87.88
| Henry | 145.14
| Houston | 78.39
| Irwin | 64.34
| Jackson | 140.17
| Jasper | 87.63
| Jeff Davis | 84.05
| Jefferson | 50.55
| Jenkins | 47.55
| Johnson | 45.46
| Jones | 80.38
| Lamar | 97.12
| Lanier | 86.23
| Laurens | 51.91
| Lee | 72.82
| Liberty | 53.46
| Lincoln | 70.16
| Long | 62.32
| Lowndes | 89.52
| Lumpkin | 227.61
| McDuffie | 64.85
| McIntosh | 142.13
| Macon | 56.85
| Madison | 72.54
| Marion | 65.32
| Meriwether | 80.26
| Miller | 62.38
| Mitchell | 72.38
| Monroe | 86.30
| Montgomery | 43.72
| Morgan | 110.62
| Murray | 108.50
| Muscogee | 130.02
| Newton | 106.89
| Oconee | 182.78
| Oglethorpe | 81.96
| Paulding | 165.60
| Peach | 101.20
| Pickens | 169.94
| Pierce | 60.26
| Pike | 92.37
| Polk | 91.26
| Pulaski | 66.24
| Putnam | 96.23
| Quitman | 53.97
| Rabun | 179.11
| Randolph | 48.97
| Richmond | 67.06
| Rockdale | 176.71
| Schley | 57.51
| Screven | 54.00
| Seminole | 68.39
| Spalding | 132.33
| Stephens | 133.43
| Stewart | 49.67
| Sumter | 57.29
| Talbot | 52.73
| Taliaferro | 55.74
| Tattnall | 70.29
| Taylor | 51.25
| Telfair | 48.15
| Terrell | 59.82
| Thomas | 84.62
| Tift | 80.38
| Toombs | 60.01
| Towns | 149.63
| Treutlen | 45.39
| Troup | 100.75
| Turner | 60.33
| Twiggs | 63.30
| Union | 152.22
| Upson | 79.97
| Walker | 98.89
| Walton | 135.84
| Ware | 62.45
| Warren | 51.09
| Washington | 52.32
| Wayne | 69.50
| Webster | 44.86
| Wheeler | 37.77
| White | 173.77
| Whitfield | 122.65
| Wilcox | 61.72
| Wilkes | 70.29
| Wilkinson | 54.00
| Worth | 65.39
Hawaii | Hawaii | 162.75
| Honolulu | 411.14
| Kauai | 154.91
| Maui | 200.49
Idaho | Ada | 60.37
| Adams | 17.40
| Bannock | 20.68
| Bear Lake | 16.26
| Benewah | 18.16
| Bingham | 25.57
| Blaine | 32.69
| Boise | 16.23
| Bonner | 49.95
| Bonneville | 26.51
| Boundary | 39.12
| Butte | 17.62
| Camas | 16.97
| Canyon | 61.00
| Caribou | 16.03
| Cassia | 26.80
| Clark | 16.66
| Clearwater | 21.53
| Custer | 26.34
| Elmore | 23.41
| Franklin | 22.96
| Fremont | 25.54
| Gem | 31.59
| Gooding | 43.81
| Idaho | 15.96
| Jefferson | 29.97
| Jerome | 43.93
| Kootenai | 47.34
| Latah | 20.62
| Lemhi | 25.42
| Lewis | 16.04
| Lincoln | 30.03
| Madison | 37.91
| Minidoka | 39.66
| Nez Perce | 19.25
| Oneida | 13.58
| Owyhee | 14.04
| Payette | 34.56
| Power | 17.30
| Shoshone | 68.41
| Teton | 37.66
| Twin Falls | 35.35
| Valley | 28.28
| Washington | 11.42
Illinois | Adams | 132.27
| Alexander | 88.53
| Bond | 173.24
| Boone | 183.38
| Brown | 106.77
| Bureau | 196.33
| Calhoun | 101.78
| Carroll | 183.08
| Cass | 149.74
| Champaign | 213.17
| Christian | 202.86
| Clark | 131.54
| Clay | 127.55
| Clinton | 156.57
| Coles | 188.77
| Cook | 280.37
| Crawford | 133.81
| Cumberland | 145.66
| DeKalb | 192.45
| De Witt | 210.26
| Douglas | 203.73
| DuPage | 186.02
| Edgar | 175.85
| Edwards | 107.74
| Effingham | 155.20
| Fayette | 119.32
| Ford | 202.99
| Franklin | 99.30
| Fulton | 140.54
| Gallatin | 117.65
| Greene | 150.95
| Grundy | 203.96
| Hamilton | 96.93
| Hancock | 153.32
| Hardin | 94.69
| Henderson | 165.74
| Henry | 182.91
| Iroquois | 182.11
| Jackson | 105.43
| Jasper | 135.65
| Jefferson | 96.49
| Jersey | 157.88
| Jo Daviess | 130.00
| Johnson | 80.93
| Kane | 237.60
| Kankakee | 177.05
| Kendall | 232.48
| Knox | 183.88
| Lake | 211.26
| La Salle | 278.37
| Lawrence | 131.13
| Lee | 202.62
| Livingston | 192.45
| Logan | 192.32
| McDonough | 188.17
| McHenry | 216.08
| McLean | 219.03
| Macon | 209.72
| Macoupin | 166.48
| Madison | 170.86
| Marion | 112.49
| Marshall | 185.39
| Mason | 156.54
| Massac | 95.79
| Menard | 169.32
| Mercer | 162.60
| Monroe | 138.66
| Montgomery | 159.48
| Morgan | 178.93
| Moultrie | 205.84
| Ogle | 185.62
| Peoria | 185.29
| Perry | 109.01
| Piatt | 231.71
| Pike | 131.64
| Pope | 69.75
| Pulaski | 107.71
| Putnam | 168.52
| Randolph | 119.39
| Richland | 117.68
| Rock Island | 166.95
| St. Clair | 169.05
| Saline | 112.93
| Sangamon | 197.27
| Schuyler | 117.21
| Scott | 155.87
| Shelby | 161.66
| Stark | 199.14
| Stephenson | 182.11
| Tazewell | 199.18
| Union | 94.92
| Vermilion | 188.57
| Wabash | 142.21
| Warren | 185.32
| Washington | 138.70
| Wayne | 119.69
| White | 120.02
| Whiteside | 183.18
| Will | 209.72
| Williamson | 118.01
| Winnebago | 169.46
| Woodford | 207.51
Indiana | Adams | 155.03
| Allen | 165.20
| Bartholomew | 157.27
| Benton | 172.79
| Blackford | 113.12
| Boone | 165.13
| Brown | 107.10
| Carroll | 182.66
| Cass | 144.83
| Clark | 113.12
| Clay | 116.60
| Clinton | 178.55
| Crawford | 68.53
| Daviess | 173.36
| Dearborn | 108.94
| Decatur | 142.39
| DeKalb | 118.51
| Delaware | 141.82
| Dubois | 119.68
| Elkhart | 215.87
| Fayette | 124.36
| Floyd | 142.66
| Fountain | 128.37
| Franklin | 122.49
| Fulton | 134.43
| Gibson | 142.59
| Grant | 149.28
| Greene | 105.49
| Hamilton | 171.99
| Hancock | 152.99
| Harrison | 98.50
| Hendricks | 156.10
| Henry | 132.52
| Howard | 169.98
| Huntington | 145.90
| Jackson | 122.62
| Jasper | 164.10
| Jay | 175.67
| Jefferson | 94.72
| Jennings | 104.26
| Johnson | 162.99
| Knox | 151.08
| Kosciusko | 156.97
| LaGrange | 199.28
| Lake | 151.79
| LaPorte | 162.79
| Lawrence | 84.89
| Madison | 161.29
| Marion | 171.86
| Marshall | 139.21
| Martin | 108.04
| Miami | 135.63
| Monroe | 129.28
| Montgomery | 149.45
| Morgan | 131.72
| Newton | 151.82
| Noble | 129.34
| Ohio | 95.26
| Orange | 93.32
| Owen | 90.88
| Parke | 111.55
| Perry | 80.24
| Pike | 114.29
| Porter | 160.35
| Posey | 128.37
| Pulaski | 137.87
| Putnam | 112.32
| Randolph | 136.13
| Ripley | 109.14
| Rush | 162.93
| St. Joseph | 164.30
| Scott | 96.10
| Shelby | 163.90
| Spencer | 103.55
| Starke | 117.27
| Steuben | 120.04
| Sullivan | 111.78
| Switzerland | 94.39
| Tippecanoe | 180.12
| Tipton | 195.44
| Union | 132.59
| Vanderburgh | 113.22
| Vermillion | 127.14
| Vigo | 103.72
| Wabash | 138.27
| Warren | 157.61
| Warrick | 129.95
| Washington | 88.87
| Wayne | 138.54
| Wells | 169.38
| White | 182.96
| Whitley | 137.47
Iowa | Adair | 125.45
| Adams | 115.10
| Allamakee | 114.09
| Appanoose | 79.60
| Audubon | 178.64
| Benton | 193.56
| Black Hawk | 213.67
| Boone | 202.34
| Bremer | 206.80
| Buchanan | 196.61
| Buena Vista | 195.77
| Butler | 183.10
| Calhoun | 206.06
| Carroll | 201.74
| Cass | 146.50
| Cedar | 192.28
| Cerro Gordo | 177.80
| Cherokee | 199.02
| Chickasaw | 191.92
| Clarke | 90.56
| Clay | 198.02
| Clayton | 128.33
| Clinton | 190.44
| Crawford | 185.48
| Dallas | 180.39
| Davis | 78.90
| Decatur | 80.10
| Delaware | 193.22
| Des Moines | 149.45
| Dickinson | 189.33
| Dubuque | 163.36
| Emmet | 195.20
| Fayette | 184.44
| Floyd | 171.64
| Franklin | 178.21
| Fremont | 164.67
| Greene | 186.69
| Grundy | 215.34
| Guthrie | 155.45
| Hamilton | 217.76
| Hancock | 186.55
| Hardin | 198.02
| Harrison | 156.15
| Henry | 132.16
| Howard | 176.77
| Humboldt | 204.52
| Ida | 181.96
| Iowa | 162.29
| Jackson | 142.95
| Jasper | 166.71
| Jefferson | 123.11
| Johnson | 184.14
| Jones | 179.61
| Keokuk | 133.63
| Kossuth | 203.98
| Lee | 114.43
| Linn | 180.25
| Louisa | 153.97
| Lucas | 77.05
| Lyon | 221.07
| Madison | 131.45
| Mahaska | 150.76
| Marion | 119.65
| Marshall | 177.57
| Mills | 169.36
| Mitchell | 197.68
| Monona | 147.24
| Monroe | 85.03
| Montgomery | 150.42
| Muscatine | 168.62
| O'Brien | 228.92
| Osceola | 188.73
| Page | 134.90
| Palo Alto | 201.70
| Plymouth | 197.14
| Pocahontas | 204.72
| Polk | 189.10
| Pottawattamie | 188.56
| Poweshiek | 163.02
| Ringgold | 91.70
| Sac | 198.95
| Scott | 217.66
| Shelby | 181.59
| Sioux | 244.13
| Story | 210.15
| Tama | 174.35
| Taylor | 102.63
| Union | 92.27
| Van Buren | 93.18
| Wapello | 110.60
| Warren | 137.12
| Washington | 163.76
| Wayne | 86.67
| Webster | 197.14
| Winnebago | 180.92
| Winneshiek | 159.77
| Woodbury | 160.18
| Worth | 164.77
| Wright | 193.29
Kansas | Allen | 36.81
| Anderson | 41.06
| Atchison | 56.77
| Barber | 32.03
| Barton | 41.32
| Bourbon | 38.16
| Brown | 86.23
| Butler | 46.39
| Chase | 35.75
| Chautauqua | 30.45
| Cherokee | 49.10
| Cheyenne | 41.75
| Clark | 23.99
| Clay | 55.65
| Cloud | 52.49
| Coffey | 40.23
| Comanche | 24.28
| Cowley | 37.76
| Crawford | 44.15
| Decatur | 40.20
| Dickinson | 53.18
| Doniphan | 94.86
| Douglas | 75.23
| Edwards | 56.25
| Elk | 33.44
| Ellis | 35.13
| Ellsworth | 34.96
| Finney | 37.93
| Ford | 32.09
| Franklin | 61.19
| Geary | 51.11
| Gove | 33.91
| Graham | 34.76
| Grant | 35.13
| Gray | 35.19
| Greeley | 39.21
| Greenwood | 37.13
| Hamilton | 26.66
| Harper | 40.00
| Harvey | 67.75
| Haskell | 36.31
| Hodgeman | 28.34
| Jackson | 46.39
| Jefferson | 58.98
| Jewell | 50.88
| Johnson | 114.40
| Kearny | 34.20
| Kingman | 37.66
| Kiowa | 32.49
| Labette | 39.18
| Lane | 33.91
| Leavenworth | 85.28
| Lincoln | 39.38
| Linn | 46.39
| Logan | 31.11
| Lyon | 41.12
| McPherson | 59.51
| Marion | 55.59
| Marshall | 70.97
| Meade | 32.16
| Miami | 82.54
| Mitchell | 59.05
| Montgomery | 40.79
| Morris | 38.72
| Morton | 22.31
| Nemaha | 74.40
| Neosho | 39.47
| Ness | 27.45
| Norton | 34.93
| Osage | 42.87
| Osborne | 36.11
| Ottawa | 49.62
| Pawnee | 48.04
| Phillips | 32.98
| Pottawatomie | 50.28
| Pratt | 42.18
| Rawlins | 45.97
| Reno | 47.35
| Republic | 69.89
| Rice | 42.11
| Riley | 48.21
| Rooks | 34.60
| Rush | 34.20
| Russell | 30.12
| Saline | 52.09
| Scott | 40.00
| Sedgwick | 62.64
| Seward | 30.35
| Shawnee | 65.60
| Sheridan | 50.58
| Sherman | 45.01
| Smith | 42.77
| Stafford | 46.59
| Stanton | 29.19
| Stevens | 36.15
| Sumner | 47.25
| Thomas | 56.21
| Trego | 34.60
| Wabaunsee | 38.75
| Wallace | 33.25
| Washington | 61.52
| Wichita | 35.78
| Wilson | 37.89
| Woodson | 36.28
| Wyandotte | 126.76
Kentucky | Adair | 68.29
| Allen | 78.82
| Anderson | 83.13
| Ballard | 90.76
| Barren | 78.56
| Bath | 52.05
| Bell | 51.88
| Boone | 164.58
| Bourbon | 113.53
| Boyd | 62.22
| Boyle | 90.83
| Bracken | 55.88
| Breathitt | 38.14
| Breckinridge | 63.99
| Bullitt | 97.23
| Butler | 53.95
| Caldwell | 72.96
| Calloway | 79.16
| Campbell | 117.17
| Carlisle | 75.46
| Carroll | 70.35
| Carter | 46.88
| Casey | 54.18
| Christian | 92.13
| Clark | 87.56
| Clay | 42.48
| Clinton | 69.19
| Crittenden | 57.42
| Cumberland | 45.55
| Daviess | 103.60
| Edmonson | 63.45
| Elliott | 36.21
| Estill | 49.28
| Fayette | 243.07
| Fleming | 55.92
| Floyd | 39.28
| Franklin | 98.26
| Fulton | 93.09
| Gallatin | 80.72
| Garrard | 65.92
| Grant | 81.62
| Graves | 86.49
| Grayson | 60.55
| Green | 60.42
| Greenup | 47.21
| Hancock | 75.02
| Hardin | 93.49
| Harlan | 35.28
| Harrison | 72.82
| Hart | 59.18
| Henderson | 97.40
| Henry | 89.16
| Hickman | 92.83
| Hopkins | 77.42
| Jackson | 48.48
| Jefferson | 230.27
| Jessamine | 145.98
| Johnson | 46.68
| Kenton | 116.30
| Knott | 36.08
| Knox | 46.65
| Larue | 91.29
| Laurel | 91.99
| Lawrence | 37.78
| Lee | 50.75
| Leslie | 115.93
| Letcher | 61.69
| Lewis | 39.18
| Lincoln | 66.39
| Livingston | 56.75
| Logan | 89.33
| Lyon | 54.02
| McCracken | 82.09
| McCreary | 47.75
| McLean | 100.30
| Madison | 80.49
| Magoffin | 39.55
| Marion | 71.82
| Marshall | 81.56
| Martin | 134.27
| Mason | 68.75
| Meade | 86.53
| Menifee | 47.68
| Mercer | 90.13
| Metcalfe | 60.18
| Monroe | 62.92
| Montgomery | 73.16
| Morgan | 34.04
| Muhlenberg | 61.99
| Nelson | 89.69
| Nicholas | 57.58
| Ohio | 65.29
| Oldham | 166.65
| Owen | 61.52
| Owsley | 35.98
| Pendleton | 63.15
| Perry | 32.18
| Pike | 35.58
| Powell | 42.41
| Pulaski | 77.26
| Robertson | 48.21
| Rockcastle | 54.22
| Rowan | 56.88
| Russell | 82.16
| Scott | 121.97
| Shelby | 130.21
| Simpson | 111.03
| Spencer | 83.59
| Taylor | 74.22
| Todd | 98.43
| Trigg | 78.96
| Trimble | 84.19
| Union | 109.47
| Warren | 96.20
| Washington | 68.29
| Wayne | 60.65
| Webster | 85.19
| Whitley | 57.82
| Wolfe | 39.68
| Woodford | 217.53
Louisiana | Acadia | 56.11
| Allen | 53.14
| Ascension | 88.99
| Assumption | 77.07
| Avoyelles | 57.38
| Beauregard | 63.16
| Bienville | 60.16
| Bossier | 85.04
| Caddo | 68.85
| Calcasieu | 64.90
| Caldwell | 62.62
| Cameron | 44.48
| Catahoula | 61.39
| Claiborne | 63.67
| Concordia | 58.36
| De Soto | 68.50
| East Baton Rouge | 145.32
| East Carroll | 69.26
| East Feliciana | 75.40
| Evangeline | 53.65
| Franklin | 57.66
| Grant | 53.96
| Iberia | 79.28
| Iberville | 45.59
| Jackson | 71.57
| Jefferson | 96.20
| Jefferson Davis | 57.47
| Lafayette | 64.87
| Lafourche | 120.63
| La Salle | 54.31
| Lincoln | 84.15
| Livingston | 145.35
| Madison | 62.40
| Morehouse | 59.87
| Natchitoches | 61.39
| Orleans | 391.71
| Ouachita | 73.75
| Plaquemines | 31.93
| Pointe Coupee | 69.39
| Rapides | 64.30
| Red River | 49.41
| Richland | 58.07
| Sabine | 80.42
| St. Bernard | 42.04
| St. Charles | 54.78
| St. Helena | 84.63
| St. James | 89.02
| St. John the Baptist | 73.59
| St. Landry | 60.82
| St. Martin | 62.53
| St. Mary | 63.41
| St. Tammany | 185.00
| Tangipahoa | 104.13
| Tensas | 55.57
| Terrebonne | 56.71
| Union | 73.56
| Vermilion | 65.72
| Vernon | 79.92
| Washington | 89.65
| Webster | 88.07
| West Baton Rouge | 94.84
| West Carroll | 53.99
| West Feliciana | 66.73
| Winn | 61.14
Maine | Androscoggin | 64.76
| Aroostook | 36.06
| Cumberland | 123.95
| Franklin | 54.87
| Hancock | 85.09
| Kennebec | 72.40
| Knox | 95.92
| Lincoln | 88.12
| Oxford | 64.22
| Penobscot | 50.90
| Piscataquis | 43.32
| Sagadahoc | 95.44
| Somerset | 53.52
| Waldo | 47.11
| Washington | 39.50
| York | 122.98
Maryland | Allegany | 91.87
| Anne Arundel | 304.58
| Baltimore | 248.32
| Calvert | 198.24
| Caroline | 160.69
| Carroll | 214.22
| Cecil | 190.85
| Charles | 169.74
| Dorchester | 137.08
| Frederick | 199.79
| Garrett | 110.68
| Harford | 217.38
| Howard | 288.34
| Kent | 179.21
| Montgomery | 267.56
| Prince George's | 207.52
| Queen Anne's | 195.81
| St. Mary's | 173.68
| Somerset | 143.92
| Talbot | 173.94
| Washington | 157.34
| Wicomico | 165.30
| Worcester | 157.08
Massachusetts | Barnstable | 822.05
| Berkshire | 161.93
| Bristol | 336.21
| Dukes | 225.93
| Essex | 480.01
| Franklin | 140.23
| Hampden | 169.27
| Hampshire | 186.07
| Middlesex | 441.14
| Nantucket | 614.59
| Norfolk | 559.69
| Plymouth | 265.35
| Suffolk | 4,725.88
| Worcester | 215.27
Michigan | Alcona | 63.34
| Alger | 53.79
| Allegan | 124.47
| Alpena | 63.21
| Antrim | 93.12
| Arenac | 72.30
| Baraga | 48.01
| Barry | 103.42
| Bay | 104.40
| Benzie | 108.33
| Berrien | 145.29
| Branch | 92.34
| Calhoun | 95.53
| Cass | 102.90
| Charlevoix | 95.72
| Cheboygan | 64.51
| Chippewa | 42.16
| Clare | 73.67
| Clinton | 112.91
| Crawford | 85.95
| Delta | 50.70
| Dickinson | 57.46
| Eaton | 96.73
| Emmet | 82.15
| Genesee | 100.50
| Gladwin | 73.28
| Gogebic | 68.18
| Grand Traverse | 138.57
| Gratiot | 117.19
| Hillsdale | 89.49
| Houghton | 46.06
| Huron | 135.19
| Ingham | 105.99
| Ionia | 108.36
| Iosco | 69.45
| Iron | 51.68
| Isabella | 98.91
| Jackson | 99.33
| Kalamazoo | 120.90
| Kalkaska | 79.09
| Kent | 152.21
| Keweenaw | 65.39
| Lake | 67.50
| Lapeer | 118.82
| Leelanau | 174.91
| Lenawee | 105.43
| Livingston | 126.00
| Luce | 59.64
| Mackinac | 53.98
| Macomb | 143.50
| Manistee | 74.71
| Marquette | 52.94
| Mason | 74.19
| Mecosta | 77.63
| Menominee | 52.13
| Midland | 93.55
| Missaukee | 78.61
| Monroe | 118.30
| Montcalm | 86.69
| Montmorency | 59.05
| Muskegon | 133.30
| Newaygo | 92.44
| Oakland | 222.76
| Oceana | 83.70
| Ogemaw | 68.86
| Ontonagon | 44.01
| Osceola | 65.90
| Oscoda | 68.31
| Otsego | 65.65
| Ottawa | 167.80
| Presque Isle | 55.74
| Roscommon | 68.24
| Saginaw | 99.17
| St. Clair | 97.09
| St. Joseph | 123.53
| Sanilac | 113.98
| Schoolcraft | 42.19
| Shiawassee | 92.96
| Tuscola | 118.04
| Van Buren | 115.50
| Washtenaw | 132.39
| Wayne | 193.39
| Wexford | 73.99
Minnesota | Aitkin | 47.13
| Anoka | 161.30
| Becker | 72.63
| Beltrami | 45.42
| Benton | 91.85
| Big Stone | 104.31
| Blue Earth | 171.46
| Brown | 147.53
| Carlton | 50.07
| Carver | 154.88
| Cass | 51.07
| Chippewa | 138.17
| Chisago | 116.41
| Clay | 94.08
| Clearwater | 44.89
| Cook | 126.84
| Cottonwood | 146.89
| Crow Wing | 69.19
| Dakota | 151.74
| Dodge | 164.37
| Douglas | 82.29
| Faribault | 150.37
| Fillmore | 122.66
| Freeborn | 145.82
| Goodhue | 144.85
| Grant | 96.69
| Hennepin | 220.19
| Houston | 92.31
| Hubbard | 60.26
| Isanti | 99.57
| Itasca | 50.37
| Jackson | 163.37
| Kanabec | 61.36
| Kandiyohi | 128.51
| Kittson | 46.89
| Koochiching | 31.45
| Lac qui Parle | 117.28
| Lake | 87.83
| Lake of the Woods | 39.84
| Le Sueur | 148.33
| Lincoln | 103.68
| Lyon | 138.97
| McLeod | 143.99
| Mahnomen | 54.41
| Marshall | 56.38
| Martin | 164.01
| Meeker | 111.23
| Mille Lacs | 73.60
| Morrison | 74.17
| Mower | 160.09
| Murray | 150.90
| Nicollet | 173.50
| Nobles | 158.22
| Norman | 80.01
| Olmsted | 146.32
| Otter Tail | 66.98
| Pennington | 48.56
| Pine | 53.94
| Pipestone | 140.38
| Polk | 77.61
| Pope | 98.03
| Ramsey | 245.32
| Red Lake | 46.79
| Redwood | 169.12
| Renville | 161.90
| Rice | 153.24
| Rock | 187.97
| Roseau | 31.75
| St. Louis | 50.27
| Scott | 166.51
| Sherburne | 115.01
| Sibley | 160.26
| Stearns | 104.31
| Steele | 160.40
| Stevens | 119.45
| Swift | 136.80
| Todd | 63.20
| Traverse | 118.92
| Wabasha | 125.60
| Wadena | 47.69
| Waseca | 157.25
| Washington | 220.26
| Watonwan | 163.40
| Wilkin | 104.35
| Winona | 125.30
| Wright | 143.35
| Yellow Medicine | 122.39
Mississippi | Adams | 56.16
| Alcorn | 48.30
| Amite | 87.08
| Attala | 46.61
| Benton | 41.31
| Bolivar | 62.59
| Calhoun | 47.71
| Carroll | 48.62
| Chickasaw | 47.81
| Choctaw | 51.05
| Claiborne | 52.05
| Clarke | 61.01
| Clay | 42.41
| Coahoma | 65.28
| Copiah | 59.16
| Covington | 76.11
| DeSoto | 68.35
| Forrest | 88.41
| Franklin | 66.31
| George | 86.98
| Greene | 56.29
| Grenada | 47.29
| Hancock | 102.58
| Harrison | 160.41
| Hinds | 59.33
| Holmes | 54.28
| Humphreys | 57.16
| Issaquena | 49.62
| Itawamba | 51.95
| Jackson | 97.76
| Jasper | 51.69
| Jefferson | 54.83
| Jefferson Davis | 51.37
| Jones | 82.52
| Kemper | 44.96
| Lafayette | 58.03
| Lamar | 93.23
| Lauderdale | 61.78
| Lawrence | 69.58
| Leake | 69.29
| Lee | 49.49
| Leflore | 52.21
| Lincoln | 77.57
| Lowndes | 54.93
| Madison | 67.77
| Marion | 76.76
| Marshall | 51.05
| Monroe | 45.25
| Montgomery | 46.03
| Neshoba | 79.74
| Newton | 53.89
| Noxubee | 55.93
| Oktibbeha | 57.00
| Panola | 49.78
| Pearl River | 82.81
| Perry | 74.08
| Pike | 91.93
| Pontotoc | 47.07
| Prentiss | 40.60
| Quitman | 52.11
| Rankin | 77.38
| Scott | 65.41
| Sharkey | 59.33
| Simpson | 70.87
| Smith | 76.50
| Stone | 94.59
| Sunflower | 50.50
| Tallahatchie | 58.19
| Tate | 51.95
| Tippah | 42.12
| Tishomingo | 47.94
| Tunica | 69.90
| Union | 53.63
| Walthall | 77.44
| Warren | 48.59
| Washington | 55.02
| Wayne | 75.40
| Webster | 46.74
| Wilkinson | 58.16
| Winston | 56.22
| Yalobusha | 47.10
| Yazoo | 54.34
Missouri | Adair | 64.57
| Andrew | 93.66
| Atchison | 128.02
| Audrain | 100.64
| Barry | 66.81
| Barton | 55.42
| Bates | 59.70
| Benton | 55.03
| Bollinger | 53.02
| Boone | 95.93
| Buchanan | 90.87
| Butler | 83.82
| Caldwell | 59.90
| Callaway | 86.03
| Camden | 57.30
| Cape Girardeau | 82.47
| Carroll | 82.51
| Carter | 43.77
| Cass | 87.34
| Cedar | 47.98
| Chariton | 78.26
| Christian | 82.24
| Clark | 69.87
| Clay | 112.75
| Clinton | 90.24
| Cole | 76.68
| Cooper | 74.81
| Crawford | 54.76
| Dade | 57.73
| Dallas | 61.25
| Daviess | 73.29
| DeKalb | 74.18
| Dent | 42.19
| Douglas | 42.75
| Dunklin | 99.26
| Franklin | 98.01
| Gasconade | 64.54
| Gentry | 69.41
| Greene | 96.95
| Grundy | 60.62
| Harrison | 65.66
| Henry | 55.92
| Hickory | 51.11
| Holt | 100.02
| Howard | 66.81
| Howell | 49.56
| Iron | 42.39
| Jackson | 106.30
| Jasper | 61.54
| Jefferson | 89.71
| Johnson | 69.64
| Knox | 78.49
| Laclede | 57.92
| Lafayette | 111.24
| Lawrence | 67.47
| Lewis | 76.19
| Lincoln | 102.68
| Linn | 63.62
| Livingston | 76.78
| McDonald | 60.92
| Macon | 65.23
| Madison | 48.44
| Maries | 51.37
| Marion | 93.76
| Mercer | 58.42
| Miller | 58.48
| Mississippi | 109.33
| Moniteau | 71.02
| Monroe | 82.28
| Montgomery | 90.90
| Morgan | 69.67
| New Madrid | 116.77
| Newton | 67.86
| Nodaway | 85.60
| Oregon | 40.97
| Osage | 53.91
| Ozark | 42.75
| Pemiscot | 95.24
| Perry | 70.36
| Pettis | 72.04
| Phelps | 60.59
| Pike | 91.13
| Platte | 102.35
| Polk | 54.40
| Pulaski | 51.27
| Putnam | 54.30
| Ralls | 84.51
| Randolph | 69.24
| Ray | 71.88
| Reynolds | 38.51
| Ripley | 47.23
| St. Charles | 111.63
| St. Clair | 43.61
| Ste. Genevieve | 60.69
| St. Francois | 66.15
| St Louis | 108.67
| Saline | 105.91
| Schuyler | 58.61
| Scotland | 77.31
| Scott | 107.35
| Shannon | 43.97
| Shelby | 93.53
| Stoddard | 115.65
| Stone | 62.37
| Sullivan | 48.91
| Taney | 51.64
| Texas | 43.21
| Vernon | 56.77
| Warren | 102.15
| Washington | 50.52
| Wayne | 40.22
| Webster | 68.78
| Worth | 59.34
| Wright | 47.33
Montana | Beaverhead | 23.49
| Big Horn | 9.29
| Blaine | 12.59
| Broadwater | 24.09
| Carbon | 24.80
| Carter | 11.32
| Cascade | 22.22
| Chouteau | 16.90
| Custer | 8.48
| Daniels | 10.87
| Dawson | 9.43
| Deer Lodge | 33.96
| Fallon | 9.24
| Fergus | 18.22
| Flathead | 105.19
| Gallatin | 55.66
| Garfield | 10.40
| Glacier | 14.38
| Golden Valley | 11.87
| Granite | 26.88
| Hill | 13.64
| Jefferson | 23.88
| Judith Basin | 18.80
| Lake | 33.65
| Lewis and Clark | 31.91
| Liberty | 12.80
| Lincoln | 79.04
| McCone | 10.11
| Madison | 26.38
| Meagher | 20.25
| Mineral | 93.68
| Missoula | 58.32
| Musselshell | 10.40
| Park | 53.76
| Petroleum | 9.24
| Phillips | 12.11
| Pondera | 17.09
| Powder River | 11.61
| Powell | 19.93
| Prairie | 11.87
| Ravalli | 102.29
| Richland | 12.59
| Roosevelt | 13.32
| Rosebud | 8.69
| Sanders | 25.01
| Sheridan | 12.48
| Silver Bow | 33.04
| Stillwater | 29.41
| Sweet Grass | 22.64
| Teton | 22.14
| Toole | 15.11
| Treasure | 10.58
| Valley | 10.45
| Wheatland | 10.79
| Wibaux | 9.85
| Yellowstone | 16.09
Nebraska | Adams | 128.93
| Antelope | 103.92
| Arthur | 10.32
| Banner | 18.81
| Blaine | 12.52
| Boone | 107.68
| Box Butte | 26.08
| Boyd | 33.59
| Brown | 17.50
| Buffalo | 91.31
| Burt | 127.43
| Butler | 120.87
| Cass | 141.51
| Cedar | 107.68
| Chase | 48.04
| Cherry | 12.98
| Cheyenne | 21.80
| Clay | 125.39
| Colfax | 129.27
| Cuming | 131.04
| Custer | 46.36
| Dakota | 117.23
| Dawes | 18.17
| Dawson | 75.89
| Deuel | 24.40
| Dixon | 101.32
| Dodge | 137.08
| Douglas | 151.89
| Dundy | 33.19
| Fillmore | 134.67
| Franklin | 72.53
| Frontier | 35.85
| Furnas | 57.20
| Gage | 85.29
| Garden | 14.93
| Garfield | 24.22
| Gosper | 77.32
| Grant | 13.50
| Greeley | 78.88
| Hall | 109.20
| Hamilton | 157.48
| Harlan | 75.31
| Hayes | 31.61
| Hitchcock | 31.51
| Holt | 51.12
| Hooker | 10.81
| Howard | 72.04
| Jefferson | 95.95
| Johnson | 62.17
| Kearney | 129.05
| Keith | 45.41
| Keya Paha | 18.93
| Kimball | 21.19
| Knox | 67.76
| Lancaster | 111.89
| Lincoln | 35.09
| Logan | 27.76
| Loup | 18.11
| McPherson | 10.93
| Madison | 117.69
| Merrick | 93.75
| Morrill | 22.54
| Nance | 83.49
| Nemaha | 99.37
| Nuckolls | 92.16
| Otoe | 104.93
| Pawnee | 63.21
| Perkins | 55.49
| Phelps | 110.03
| Pierce | 105.63
| Platte | 124.29
| Polk | 145.18
| Red Willow | 38.94
| Richardson | 93.14
| Rock | 26.32
| Saline | 117.69
| Sarpy | 145.57
| Saunders | 128.69
| Scotts Bluff | 45.62
| Seward | 122.91
| Sheridan | 16.92
| Sherman | 57.87
| Sioux | 13.99
| Stanton | 106.88
| Thayer | 100.71
| Thomas | 12.28
| Thurston | 123.34
| Valley | 53.96
| Washington | 147.16
| Wayne | 106.82
| Webster | 69.14
| Wheeler | 29.93
| York | 137.57
Nevada | Carson City | 28.77
| Churchill | 18.47
| Clark | 28.09
| Douglas | 22.43
| Elko | 51.65
| Esmeralda | 18.72
| Eureka | 43.21
| Humboldt | 22.21
| Lander | 3.81
| Lincoln | 13.79
| Lyon | 4.98
| Mineral | 7.63
| Nye | 5.72
| Pershing | 22.38
| Storey | 16.89
| Washoe | 3.30
| White Pine | 16.47
New Hampshire | Belknap Carroll | 137.47 119.57
| Cheshire | 73.67
| Coos | 60.05
| Grafton | 74.84
| Hillsborough | 163.45
| Merrimack | 100.00
| Rockingham | 186.92
| Strafford | 123.41
| Sullivan | 99.09
New Jersey | Atlantic | 294.97
| Bergen | 1,009.12
| Burlington | 231.91
| Camden | 301.26
| Cape May | 276.15
| Cumberland | 192.38
| Essex | 1,519.67
| Gloucester | 285.13
| Hudson | 306.29
| Hunterdon | 392.69
| Mercer | 486.27
| Middlesex | 471.34
| Monmouth | 516.71
| Morris | 554.21
| Ocean | 369.82
| Passaic | 747.07
| Salem | 189.03
| Somerset | 490.76
| Sussex | 255.53
| Union | 3,018.86
| Warren | 244.93
New Mexico | Bernalillo | 21.18
| Catron | 7.99
| Chaves | 6.72
| Cibola | 5.84
| Colfax | 7.40
| Curry | 10.81
| De Baca | 4.62
| Dona Ana | 33.44
| Eddy | 8.36
| Grant | 7.01
| Guadalupe | 4.97
| Harding | 5.28
| Hidalgo | 4.62
| Lea | 6.33
| Lincoln | 6.61
| Los Alamos | 285.20
| Luna | 7.92
| McKinley | 5.88
| Mora | 10.37
| Otero | 7.85
| Quay | 6.26
| Rio Arriba | 13.52
| Roosevelt | 9.11
| Sandoval | 6.49
| San Juan | 7.05
| San Miguel | 9.76
| Santa Fe | 15.81
| Sierra | 5.35
| Socorro | 9.20
| Taos | 21.90
| Torrance | 6.79
| Union | 6.87
| Valencia | 17.61
New York | Albany | 80.70
| Allegany | 45.58
| Bronx | 67.71
| Broome | 68.30
| Cattaraugus | 49.25
| Cayuga | 83.73
| Chautauqua | 53.78
| Chemung | 62.70
| Chenango | 47.79
| Clinton | 52.74
| Columbia | 136.01
| Cortland | 49.64
| Delaware | 64.91
| Dutchess | 135.10
| Erie | 77.05
| Essex | 54.95
| Franklin | 43.75
| Fulton | 55.93
| Genesee | 68.56
| Greene | 97.30
| Hamilton | 47.46
| Herkimer | 50.20
| Jefferson | 42.71
| Kings | 20,638.99
| Lewis | 43.49
| Livingston | 75.46
| Madison | 53.19
| Monroe | 92.48
| Montgomery | 59.87
| Nassau | 477.43
| New York | 67.71
| Niagara | 59.70
| Oneida | 51.86
| Onondaga | 82.17
| Ontario | 83.92
| Orange | 144.21
| Orleans | 67.65
| Oswego | 52.67
| Otsego | 58.47
| Putnam | 142.39
| Queens | 133.53
| Rensselaer | 89.49
| Richmond | 4,591.66
| Rockland | 2,255.74
| St. Lawrence | 36.92
| Saratoga | 124.78
| Schenectady | 89.95
| Schoharie | 59.35
| Schuyler | 74.42
| Seneca | 76.70
| Steuben | 47.76
| Suffolk | 304.64
| Sullivan | 95.90
| Tioga | 51.24
| Tompkins | 71.81
| Ulster | 131.32
| Warren | 104.11
| Washington | 63.19
| Wayne | 64.55
| Westchester | 419.36
| Wyoming | 68.17
| Yates | 103.03
North Carolina | Alamance | 122.96
| Alexander | 155.13
| Alleghany | 125.24
| Anson | 97.14
| Ashe | 148.32
| Avery | 181.70
| Beaufort | 79.70
| Bertie | 70.47
| Bladen | 85.83
| Brunswick | 112.20
| Buncombe | 224.30
| Burke | 138.67
| Cabarrus | 191.02
| Caldwell | 143.98
| Camden | 74.09
| Carteret | 85.73
| Caswell | 75.04
| Catawba | 140.82
| Chatham | 129.38
| Cherokee | 149.85
| Chowan | 82.63
| Clay | 130.13
| Cleveland | 107.34
| Columbus | 79.08
| Craven | 80.68
| Cumberland | 81.39
| Currituck | 106.59
| Dare | 100.59
| Davidson | 160.05
| Davie | 161.09
| Duplin | 106.30
| Durham | 223.68
| Edgecombe | 68.68
| Forsyth | 216.67
| Franklin | 111.38
| Gaston | 158.09
| Gates | 90.75
| Graham | 157.15
| Granville | 107.11
| Greene | 101.70
| Guilford | 161.29
| Halifax | 61.84
| Harnett | 139.48
| Haywood | 165.17
| Henderson | 203.60
| Hertford | 62.39
| Hoke | 83.55
| Hyde | 64.15
| Iredell | 156.82
| Jackson | 251.81
| Johnston | 127.32
| Jones | 69.56
| Lee | 109.00
| Lenoir | 88.01
| Lincoln | 145.28
| McDowell | 150.43
| Macon | 199.00
| Madison | 141.18
| Martin | 73.51
| Mecklenburg | 536.97
| Mitchell | 137.46
| Montgomery | 106.89
| Moore | 138.86
| Nash | 99.42
| New Hanover | 371.12
| Northampton | 68.26
| Onslow | 99.58
| Orange | 174.52
| Pamlico | 75.04
| Pasquotank | 82.37
| Pender | 110.28
| Perquimans | 84.62
| Person | 99.03
| Pitt | 82.96
| Polk | 191.21
| Randolph | 124.98
| Richmond | 107.41
| Robeson | 76.60
| Rockingham | 105.48
| Rowan | 147.53
| Rutherford | 105.22
| Sampson | 103.66
| Scotland | 93.88
| Stanly | 134.07
| Stokes | 100.33
| Surry | 119.63
| Swain | 164.06
| Transylvania | 230.46
| Tyrrell | 66.37
| Union | 147.27
| Vance | 90.23
| Wake | 249.69
| Warren | 66.82
| Washington | 78.69
| Watauga | 194.90
| Wayne | 107.54
| Wilkes | 126.28
| Wilson | 99.55
| Yadkin | 137.36
| Yancey | 169.05
North Dakota | Adams | 21.57
| Barnes | 59.80
| Benson | 34.58
| Billings | 21.07
| Bottineau | 36.15
| Bowman | 20.13
| Burke | 22.44
| Burleigh | 37.66
| Cass | 76.65
| Cavalier | 50.90
| Dickey | 60.30
| Divide | 17.29
| Dunn | 24.41
| Eddy | 35.79
| Emmons | 31.50
| Foster | 49.97
| Golden Valley | 22.54
| Grand Forks | 56.22
| Grant | 24.68
| Griggs | 48.80
| Hettinger | 30.00
| Kidder | 24.75
| LaMoure | 57.86
| Logan | 27.36
| McHenry | 24.05
| McIntosh | 31.47
| McKenzie | 19.73
| McLean | 35.12
| Mercer | 25.48
| Morton | 27.36
| Mountrail | 24.35
| Nelson | 31.44
| Oliver | 27.32
| Pembina | 68.96
| Pierce | 27.49
| Ramsey | 37.26
| Ransom | 48.90
| Renville | 43.28
| Richland | 79.46
| Rolette | 30.07
| Sargent | 63.48
| Sheridan | 25.02
| Sioux | 23.91
| Slope | 22.81
| Stark | 36.32
| Steele | 49.50
| Stutsman | 46.72
| Towner | 34.31
| Traill | 77.62
| Walsh | 63.61
| Ward | 41.14
| Wells | 43.28
| Williams | 19.93
Ohio | Adams | 76.46
| Allen | 141.13
| Ashland | 122.26
| Ashtabula | 87.47
| Athens | 74.29
| Auglaize | 161.42
| Belmont | 89.31
| Brown | 96.22
| Butler | 156.12
| Carroll | 99.29
| Champaign | 143.13
| Clark | 137.22
| Clermont | 136.38
| Clinton | 132.55
| Columbiana | 129.84
| Coshocton | 91.61
| Crawford | 125.03
| Cuyahoga | 457.06
| Darke | 189.57
| Defiance | 119.72
| Delaware | 158.59
| Erie | 125.73
| Fairfield | 127.47
| Fayette | 146.17
| Franklin | 164.30
| Fulton | 148.40
| Gallia | 86.91
| Geauga | 189.47
| Greene | 160.59
| Guernsey | 76.69
| Hamilton | 194.51
| Hancock | 126.37
| Hardin | 130.54
| Harrison | 80.33
| Henry | 150.77
| Highland | 96.65
| Hocking | 95.75
| Holmes | 155.52
| Huron | 119.79
| Jackson | 63.10
| Jefferson | 73.58
| Knox | 127.64
| Lake | 201.66
| Lawrence | 65.20
| Licking | 130.71
| Logan | 132.98
| Lorain | 125.47
| Lucas | 154.31
| Madison | 136.02
| Mahoning | 132.68
| Marion | 127.47
| Medina | 169.94
| Meigs | 64.84
| Mercer | 209.77
| Miami | 152.31
| Monroe | 61.63
| Montgomery | 156.45
| Morgan | 64.17
| Morrow | 125.07
| Muskingum | 87.14
| Noble | 68.04
| Ottawa | 126.94
| Paulding | 129.47
| Perry | 96.82
| Pickaway | 128.00
| Pike | 84.84
| Portage | 138.75
| Preble | 140.39
| Putnam | 134.31
| Richland | 132.55
| Ross | 96.35
| Sandusky | 125.77
| Scioto | 75.12
| Seneca | 130.14
| Shelby | 158.99
| Stark | 147.27
| Summit | 225.73
| Trumbull | 107.04
| Tuscarawas | 102.33
| Union | 137.19
| Van Wert | 167.63
| Vinton | 64.84
| Warren | 190.97
| Washington | 71.48
| Wayne | 166.60
| Williams | 102.23
| Wood | 155.48
| Wyandot | 134.31
Oklahoma | Adair | 52.36
| Alfalfa | 37.61
| Atoka | 36.95
| Beaver | 17.66
| Beckham | 29.24
| Blaine | 31.49
| Bryan | 46.87
| Caddo | 35.39
| Canadian | 50.97
| Carter | 41.78
| Cherokee | 62.71
| Choctaw | 38.93
| Cimarron | 13.36
| Cleveland | 82.69
| Coal | 33.34
| Comanche | 36.55
| Cotton | 29.80
| Craig | 42.14
| Creek | 47.30
| Custer | 35.46
| Delaware | 61.36
| Dewey | 26.79
| Ellis | 21.10
| Garfield | 37.94
| Garvin | 41.81
| Grady | 42.60
| Grant | 36.12
| Greer | 22.66
| Harmon | 25.20
| Harper | 20.14
| Haskell | 40.06
| Hughes | 33.01
| Jackson | 26.49
| Jefferson | 26.76
| Johnston | 35.56
| Kay | 35.79
| Kingfisher | 36.05
| Kiowa | 25.44
| Latimer | 35.26
| Le Flore | 52.53
| Lincoln | 45.61
| Logan | 49.85
| Love | 45.78
| McClain | 54.05
| McCurtain | 46.11
| McIntosh | 40.78
| Major | 29.70
| Marshall | 44.26
| Mayes | 55.90
| Murray | 36.68
| Muskogee | 46.70
| Noble | 37.71
| Nowata | 43.86
| Okfuskee | 33.77
| Oklahoma | 82.00
| Okmulgee | 47.66
| Osage | 27.92
| Ottawa | 61.03
| Pawnee | 35.23
| Payne | 50.04
| Pittsburg | 36.02
| Pontotoc | 46.54
| Pottawatomie | 46.47
| Pushmataha | 30.10
| Roger Mills | 27.29
| Rogers | 65.19
| Seminole | 37.34
| Sequoyah | 52.99
| Stephens | 33.54
| Texas | 21.17
| Tillman | 26.56
| Tulsa | 96.19
| Wagoner | 64.23
| Washington | 44.26
| Washita | 31.72
| Woods | 28.71
| Woodward | 29.31
Oregon | Baker | 19.10
| Benton | 111.76
| Clackamas | 254.07
| Clatsop | 104.51
| Columbia | 103.47
| Coos | 60.76
| Crook | 17.12
| Curry | 64.19
| Deschutes | 132.16
| Douglas | 58.09
| Gilliam | 9.37
| Grant | 15.17
| Harney | 10.31
| Hood River | 357.94
| Jackson | 88.21
| Jefferson | 12.08
| Josephine | 189.38
| Klamath | 27.79
| Lake | 19.17
| Lane | 128.55
| Lincoln | 90.33
| Linn | 91.18
| Malheur | 22.11
| Marion | 149.63
| Morrow | 17.92
| Multnomah | 224.70
| Polk | 115.70
| Sherman | 11.23
| Tillamook | 117.91
| Umatilla | 30.75
| Union | 29.15
| Wallowa | 23.78
| Wasco | 14.18
| Washington | 176.55
| Wheeler | 12.20
| Yamhill | 172.61
Pennsylvania | Adams | 164.15
| Allegheny | 138.76
| Armstrong | 75.72
| Beaver | 126.65
| Bedford | 97.25
| Berks | 233.31
| Blair | 120.23
| Bradford | 97.55
| Bucks | 323.42
| Butler | 125.04
| Cambria | 86.32
| Cameron | 51.49
| Carbon | 172.44
| Centre | 142.65
| Chester | 344.23
| Clarion | 77.73
| Clearfield | 69.76
| Clinton | 142.58
| Columbia | 123.59
| Crawford | 74.34
| Cumberland | 205.23
| Dauphin | 119.60
| Delaware | 363.39
| Elk | 90.07
| Erie | 90.53
| Fayette | 87.47
| Forest | 63.41
| Franklin | 175.04
| Fulton | 95.83
| Greene | 79.21
| Huntingdon | 100.94
| Indiana | 73.71
| Jefferson | 68.38
| Juniata | 132.71
| Lackawanna | 128.89
| Lancaster | 329.97
| Lawrence | 108.11
| Lebanon | 278.19
| Lehigh | 219.36
| Luzerne | 118.22
| Lycoming | 112.33
| McKean | 54.32
| Mercer | 90.07
| Mifflin | 129.25
| Monroe | 207.01
| Montgomery | 370.07
| Montour | 144.39
| Northampton | 216.43
| Northumberland | 128.99
| Perry | 133.04
| Philadelphia | 1,194.06
| Pike | 48.33
| Potter | 72.39
| Schuylkill | 169.51
| Snyder | 153.28
| Somerset | 69.30
| Sullivan | 81.22
| Susquehanna | 107.42
| Tioga | 90.53
| Union | 141.99
| Venango | 81.45
| Warren | 61.79
| Washington | 120.03
| Wayne | 98.24
| Westmoreland | 125.30
| Wyoming | 105.64
| York | 198.78
Puerto Rico | All Areas | 170.53
Rhode Island | Bristol | 580.58
| Kent | 195.88
| Newport | 505.19
| Providence | 329.72
| Washington | 269.54
South Carolina | Abbeville | 72.26
| Aiken | 98.95
| Allendale | 57.58
| Anderson | 113.73
| Bamberg | 57.68
| Barnwell | 63.47
| Beaufort | 88.08
| Berkeley | 92.90
| Calhoun | 72.75
| Charleston | 162.33
| Cherokee | 78.97
| Chester | 73.43
| Chesterfield | 71.32
| Clarendon | 47.91
| Colleton | 70.24
| Darlington | 64.19
| Dillon | 67.77
| Dorchester | 89.58
| Edgefield | 76.98
| Fairfield | 72.68
| Florence | 57.68
| Georgetown | 61.29
| Greenville | 169.19
| Greenwood | 62.69
| Hampton | 62.43
| Horry | 78.54
| Jasper | 70.76
| Kershaw | 79.62
| Lancaster | 102.50
| Laurens | 88.24
| Lee | 58.98
| Lexington | 103.74
| McCormick | 46.03
| Marion | 60.61
| Marlboro | 56.47
| Newberry | 70.60
| Oconee | 138.21
| Orangeburg | 65.82
| Pickens | 145.17
| Richland | 91.43
| Saluda | 74.28
| Spartanburg | 129.26
| Sumter | 60.41
| Union | 57.35
| Williamsburg | 54.33
| York | 131.01
South Dakota | Aurora | 63.03
| Beadle | 76.45
| Bennett | 15.08
| Bon Homme | 77.95
| Brookings | 113.75
| Brown | 77.88
| Brule | 60.80
| Buffalo | 31.57
| Butte | 16.52
| Campbell | 34.04
| Charles Mix | 62.80
| Clark | 67.64
| Clay | 118.06
| Codington | 71.64
| Corson | 17.45
| Custer | 30.60
| Davison | 90.56
| Day | 51.02
| Deuel | 78.78
| Dewey | 15.28
| Douglas | 76.18
| Edmunds | 58.53
| Fall River | 13.75
| Faulk | 51.92
| Grant | 79.88
| Gregory | 32.60
| Haakon | 16.05
| Hamlin | 95.37
| Hand | 50.92
| Hanson | 99.97
| Harding | 11.21
| Hughes | 52.39
| Hutchinson | 87.76
| Hyde | 37.11
| Jackson | 21.22
| Jerauld | 52.52
| Jones | 19.42
| Kingsbury | 88.59
| Lake | 108.95
| Lawrence | 37.87
| Lincoln | 145.22
| Lyman | 26.76
| McCook | 113.39
| McPherson | 40.84
| Marshall | 59.66
| Meade | 17.99
| Mellette | 19.09
| Miner | 85.76
| Minnehaha | 137.38
| Moody | 135.98
| Pennington | 18.65
| Perkins | 14.35
| Potter | 53.36
| Roberts | 67.57
| Sanborn | 63.47
| Shannon | 12.28
| Spink | 79.45
| Stanley | 24.49
| Sully | 41.64
| Todd | 13.65
| Tripp | 29.83
| Turner | 115.22
| Union | 133.81
| Walworth | 39.54
| Yankton | 110.58
| Ziebach | 12.68
Tennessee | Anderson | 156.13
| Bedford | 101.88
| Benton | 59.75
| Bledsoe | 93.48
| Blount | 181.59
| Bradley | 145.00
| Campbell | 99.61
| Cannon | 82.58
| Carroll | 65.32
| Carter | 139.63
| Cheatham | 113.84
| Chester | 51.39
| Claiborne | 81.75
| Clay | 74.08
| Cocke | 97.78
| Coffee | 94.38
| Crockett | 75.62
| Cumberland | 101.51
| Davidson | 165.86
| Decatur | 57.32
| DeKalb | 85.55
| Dickson | 88.75
| Dyer | 66.85
| Fayette | 83.75
| Fentress | 85.51
| Franklin | 103.91
| Gibson | 82.38
| Giles | 78.31
| Grainger | 101.38
| Greene | 108.04
| Grundy | 76.35
| Hamblen | 124.84
| Hamilton | 150.73
| Hancock | 61.25
| Hardeman | 68.08
| Hardin | 67.48
| Hawkins | 93.91
| Haywood | 96.18
| Henderson | 58.85
| Henry | 74.08
| Hickman | 63.82
| Houston | 60.49
| Humphreys | 75.82
| Jackson | 77.15
| Jefferson | 143.97
| Johnson | 127.00
| Knox | 204.48
| Lake | 87.75
| Lauderdale | 83.38
| Lawrence | 70.62
| Lewis | 69.38
| Lincoln | 89.88
| Loudon | 144.57
| McMinn | 109.24
| McNairy | 57.52
| Macon | 91.28
| Madison | 67.18
| Marion | 78.45
| Marshall | 80.45
| Maury | 97.28
| Meigs | 93.84
| Monroe | 120.17
| Montgomery | 114.91
| Moore | 94.04
| Morgan | 91.38
| Obion | 84.95
| Overton | 86.65
| Perry | 52.82
| Pickett | 77.45
| Polk | 119.17
| Putnam | 115.41
| Rhea | 93.28
| Roane | 135.57
| Robertson | 129.80
| Rutherford | 130.04
| Scott | 75.28
| Sequatchie | 86.28
| Sevier | 158.00
| Shelby | 122.27
| Smith | 70.85
| Stewart | 70.08
| Sullivan | 147.33
| Sumner | 129.67
| Tipton | 79.11
| Trousdale | 102.74
| Unicoi | 146.93
| Union | 76.98
| Van Buren | 99.21
| Warren | 95.14
| Washington | 171.09
| Wayne | 53.69
| Weakley | 79.35
| White | 100.41
| Williamson | 196.65
| Wilson | 118.17
Texas | Anderson | 62.16
| Andrews | 8.32
| Angelina | 80.24
| Aransas | 43.29
| Archer | 25.00
| Armstrong | 26.71
| Atascosa | 49.77
| Austin | 103.84
| Bailey | 20.46
| Bandera | 68.45
| Bastrop | 94.97
| Baylor | 26.40
| Bee | 47.42
| Bell | 77.82
| Bexar | 108.79
| Blanco | 120.13
| Borden | 14.87
| Bosque | 61.49
| Bowie | 57.65
| Brazoria | 77.15
| Brazos | 95.83
| Brewster | 11.91
| Briscoe | 21.19
| Brooks | 27.00
| Brown | 52.00
| Burleson | 72.99
| Burnet | 84.46
| Caldwell | 84.02
| Calhoun | 44.60
| Callahan | 38.37
| Cameron | 74.65
| Camp | 66.13
| Carson | 23.38
| Cass | 52.35
| Castro | 27.89
| Chambers | 50.73
| Cherokee | 62.77
| Childress | 19.53
| Clay | 40.09
| Cochran | 17.09
| Coke | 26.55
| Coleman | 38.43
| Collin | 134.74
| Collingsworth | 21.15
| Colorado | 84.08
| Comal | 133.34
| Comanche | 61.02
| Concho | 40.21
| Cooke | 83.03
| Coryell | 61.81
| Cottle | 15.72
| Crane | 14.99
| Crockett | 16.01
| Crosby | 21.73
| Culberson | 8.70
| Dallam | 23.95
| Dallas | 117.18
| Dawson | 20.04
| Deaf Smith | 25.13
| Delta | 46.41
| Denton | 155.29
| DeWitt | 66.39
| Dickens | 18.61
| Dimmit | 39.61
| Donley | 27.38
| Duval | 33.16
| Eastland | 50.50
| Ector | 12.29
| Edwards | 31.92
| Ellis | 49.23
| El Paso | 80.84
| Erath | 81.70
| Falls | 49.49
| Fannin | 65.08
| Fayette | 107.62
| Fisher | 27.51
| Floyd | 29.10
| Foard | 18.77
| Fort Bend | 104.06
| Franklin | 72.90
| Freestone | 53.36
| Frio | 51.90
| Gaines | 24.65
| Galveston | 91.58
| Garza | 17.63
| Gillespie | 108.25
| Glasscock | 22.74
| Goliad | 52.54
| Gonzales | 82.11
| Gray | 22.55
| Grayson | 95.48
| Gregg | 98.63
| Grimes | 98.21
| Guadalupe | 91.35
| Hale | 30.11
| Hall | 19.60
| Hamilton | 63.08
| Hansford | 23.51
| Hardeman | 22.23
| Hardin | 78.58
| Harris | 135.76
| Harrison | 72.29
| Hartley | 25.54
| Haskell | 18.80
| Hays | 157.55
| Hemphill | 18.80
| Henderson | 75.69
| Hidalgo | 77.19
| Hill | 57.24
| Hockley | 26.36
| Hood | 103.80
| Hopkins | 56.25
| Houston | 57.02
| Howard | 19.28
| Hudspeth | 14.29
| Hunt | 77.66
| Hutchinson | 19.38
| Irion | 23.85
| Jack | 49.71
| Jackson | 53.71
| Jasper | 80.01
| Jeff Davis | 12.20
| Jefferson | 42.12
| Jim Hogg | 33.92
| Jim Wells | 46.44
| Johnson | 103.61
| Jones | 28.27
| Karnes | 66.01
| Kaufman | 86.37
| Kendall | 121.66
| Kenedy | 16.71
| Kent | 21.69
| Kerr | 66.93
| Kimble | 45.04
| King | 15.44
| Kinney | 30.56
| Kleberg | 47.87
| Knox | 19.63
| Lamar | 49.62
| Lamb | 54.95
| Lampasas | 29.41
| La Salle | 63.81
| Lavaca | 74.49
| Lee | 81.28
| Leon | 63.69
| Liberty | 63.65
| Limestone | 48.06
| Lipscomb | 20.52
| Live Oak | 48.69
| Llano | 68.74
| Loving | 5.05
| Lubbock | 47.07
| Lynn | 22.87
| McCulloch | 47.07
| McLennan | 65.85
| McMullen | 35.70
| Madison | 71.12
| Marion | 56.51
| Martin | 26.24
| Mason | 60.16
| Matagorda | 50.38
| Maverick | 29.95
| Medina | 66.01
| Menard | 37.07
| Midland | 36.40
| Milam | 91.00
| Mills | 56.48
| Mitchell | 20.04
| Montague | 63.53
| Montgomery | 150.05
| Moore | 23.85
| Morris | 53.36
| Motley | 18.74
| Nacogdoches | 64.07
| Navarro | 52.16
| Newton | 50.92
| Nolan | 28.56
| Nueces | 39.36
| Ochiltree | 25.44
| Oldham | 14.99
| Orange | 84.43
| Palo Pinto | 61.18
| Panola | 53.40
| Parker | 127.37
| Parmer | 26.43
| Pecos | 12.90
| Polk | 69.44
| Potter | 13.91
| Presidio | 11.72
| Rains | 64.10
| Randall | 25.51
| Reagan | 12.36
| Real | 37.54
| Red River | 42.25
| Reeves | 6.83
| Refugio | 23.19
| Roberts | 16.71
| Robertson | 60.83
| Rockwall | 148.31
| Runnels | 32.88
| Rusk | 55.55
| Sabine | 69.05
| San Augustine | 58.70
| San Jacinto | 72.04
| San Patricio | 40.59
| San Saba | 61.94
| Schleicher | 23.54
| Scurry | 21.60
| Shackelford | 27.76
| Shelby | 74.39
| Sherman | 27.38
| Smith | 96.21
| Somervell | 98.94
| Starr | 44.98
| Stephens | 35.54
| Sterling | 13.40
| Stonewall | 18.26
| Sutton | 23.98
| Swisher | 23.41
| Tarrant | 161.07
| Taylor | 28.78
| Terrell | 9.88
| Terry | 28.94
| Throckmorton | 30.46
| Titus | 65.43
| Tom Green | 28.97
| Travis | 97.52
| Trinity | 58.89
| Tyler | 74.30
| Upshur | 72.74
| Upton | 14.93
| Uvalde | 50.79
| Val Verde | 14.48
| Van Zandt | 81.09
| Victoria | 58.25
| Walker | 84.59
| Waller | 158.69
| Ward | 9.40
| Washington | 141.00
| Webb | 27.51
| Wharton | 64.58
| Wheeler | 20.87
| Wichita | 30.30
| Wilbarger | 25.41
| Willacy | 46.44
| Williamson | 98.72
| Wilson | 75.92
| Winkler | 9.21
| Wise | 96.94
| Wood | 72.49
| Yoakum | 20.55
| Young | 35.16
| Zapata | 29.70
| Zavala | 39.01
Utah | Beaver | 20.80
| Box Elder | 12.52
| Cache | 36.74
| Carbon | 12.68
| Daggett | 22.24
| Davis | 67.51
| Duchesne | 8.67
| Emery | 17.70
| Garfield | 23.67
| Grand | 6.03
| Iron | 19.64
| Juab | 12.49
| Kane | 14.68
| Millard | 14.63
| Morgan | 16.40
| Piute | 30.52
| Rich | 10.48
| Salt Lake | 49.26
| San Juan | 3.89
| Sanpete | 22.41
| Sevier | 31.43
| Summit | 23.75
| Tooele | 12.43
| Uintah | 6.59
| Utah | 55.51
| Wasatch | 39.75
| Washington | 38.07
| Wayne | 42.04
| Weber | 60.62
Vermont | Addison | 79.90
| Bennington | 109.63
| Caledonia | 83.54
| Chittenden | 112.81
| Essex | 48.89
| Franklin | 73.53
| Grand Isle | 99.92
| Lamoille | 95.68
| Orange | 81.31
| Orleans | 63.85
| Rutland | 71.34
| Washington | 105.33
| Windham | 104.94
| Windsor | 99.62
Virginia | Accomack | 97.04
| Albemarle | 231.85
| Alleghany | 82.28
| Amelia | 81.16
| Amherst | 96.55
| Appomattox | 75.40
| Arlington | 1,423.59
| Augusta | 165.66
| Bath | 110.32
| Bedford | 117.30
| Bland | 85.39
| Botetourt | 115.71
| Brunswick | 55.27
| Buchanan | 69.97
| Buckingham | 81.49
| Campbell | 79.04
| Caroline | 109.29
| Carroll | 90.19
| Charles City | 99.46
| Charlotte | 60.14
| Chesterfield | 115.31
| Clarke | 141.10
| Craig | 208.65
| Culpeper | 83.94
| Cumberland | 170.79
| Dickenson | 94.99
| Dinwiddie | 78.58
| Essex | 79.50
| Fairfax | 80.63
| Fauquier | 401.32
| Floyd | 210.11
| Fluvanna | 95.92
| Franklin | 134.97
| Frederick | 93.83
| Giles | 156.29
| Gloucester | 69.97
| Goochland | 133.12
| Grayson | 144.51
| Greene | 111.08
| Greensville | 182.17
| Halifax | 53.72
| Hanover | 60.83
| Henrico | 147.39
| Henry | 174.16
| Highland | 71.49
| Isle of Wight | 89.50
| James City | 94.16
| King and Queen | 232.12
| King George | 81.79
| King William | 133.25
| Lancaster | 98.86
| Lee | 121.24
| Loudoun | 58.32
| Louisa | 317.15
| Lunenburg | 151.52
| Madison | 63.02
| Mathews | 167.25
| Mecklenburg | 163.97
| Middlesex | 68.18
| Montgomery | 102.07
| Nelson | 129.15
| New Kent | 121.30
| Northampton | 146.29
| Northumberland | 114.35
| Nottoway | 79.47
| Orange | 82.61
| Page | 178.63
| Patrick | 155.73
| Pittsylvania | 88.34
| Powhatan | 64.34
| Prince Edward | 151.69
| Prince George | 84.80
| Prince William | 111.28
| Pulaski | 233.74
| Rappahannock | 81.39
| Richmond | 223.54
| Roanoke | 76.32
| Rockbridge | 113.20
| Rockingham | 113.76
| Russell | 186.81
| Scott | 57.49
| Shenandoah | 54.98
| Smyth | 147.75
| Southampton | 73.84
| Spotsylvania | 70.63
| Stafford | 162.31
| Surry | 242.74
| Sussex | 119.72
| Tazewell | 94.83
| Warren | 60.30
| Washington | 58.65
| Westmoreland | 140.80
| Wise | 188.99
| Wythe | 104.23
| York | 94.69
| Chesapeake City | 72.98
| Suffolk | 89.66
| Virginia Beach City | 132.16
Washington | Adams | 20.01
| Asotin | 13.84
| Benton | 44.50
| Chelan | 142.39
| Clallam | 202.59
| Clark | 205.65
| Columbia | 17.49
| Cowlitz | 141.29
| Douglas | 16.56
| Ferry | 6.91
| Franklin | 47.58
| Garfield | 15.40
| Grant | 55.71
| Grays Harbor | 34.17
| Island | 231.40
| Jefferson | 148.50
| King | 348.37
| Kitsap | 429.86
| Kittitas | 71.86
| Klickitat | 23.16
| Lewis | 102.30
| Lincoln | 18.08
| Mason | 134.83
| Okanogan | 21.56
| Pacific | 56.18
| Pend Oreille | 49.64
| Pierce | 231.17
| San Juan | 215.00
| Skagit | 123.29
| Skamania | 165.24
| Snohomish | 260.94
| Spokane | 46.22
| Stevens | 25.56
| Thurston | 141.23
| Wahkiakum | 76.27
| Walla Walla | 33.91
| Whatcom | 187.80
| Whitman | 22.72
| Yakima | 29.30
West Virginia | Barbour | 52.13
| Berkeley | 153.53
| Boone | 46.30
| Braxton | 43.60
| Brooke | 51.93
| Cabell | 79.93
| Calhoun | 40.57
| Clay | 49.93
| Doddridge | 50.20
| Fayette | 65.53
| Gilmer | 39.27
| Grant | 63.40
| Greenbrier | 75.66
| Hampshire | 96.03
| Hancock | 78.20
| Hardy | 75.66
| Harrison | 56.50
| Jackson | 58.87
| Jefferson | 183.26
| Kanawha | 57.73
| Lewis | 52.50
| Lincoln | 53.90
| Logan | 51.97
| McDowell | 63.97
| Marion | 57.47
| Marshall | 58.63
| Mason | 56.37
| Mercer | 59.27
| Mineral | 80.16
| Mingo | 37.80
| Monongalia | 82.40
| Monroe | 60.87
| Morgan | 119.20
| Nicholas | 68.07
| Ohio | 61.67
| Pendleton | 62.03
| Pleasants | 51.53
| Pocahontas | 58.70
| Preston | 65.80
| Putnam | 68.17
| Raleigh | 66.33
| Randolph | 48.40
| Ritchie | 42.63
| Roane | 45.77
| Summers | 58.60
| Taylor | 66.17
| Tucker | 81.56
| Tyler | 48.97
| Upshur | 61.87
| Wayne | 50.13
| Webster | 58.50
| Wetzel | 48.70
| Wirt | 43.80
| Wood | 62.20
| Wyoming | 55.27
Wisconsin | Adams | 101.57
| Ashland | 48.22
| Barron | 73.29
| Bayfield | 53.19
| Brown | 142.07
| Buffalo | 88.12
| Burnett | 64.39
| Calumet | 144.55
| Chippewa | 71.43
| Clark | 81.87
| Columbia | 132.05
| Crawford | 70.87
| Dane | 158.63
| Dodge | 140.23
| Door | 106.58
| Douglas | 45.50
| Dunn | 86.84
| Eau Claire | 78.63
| Florence | 81.57
| Fond du Lac | 130.97
| Forest | 53.91
| Grant | 109.00
| Green | 114.57
| Green Lake | 118.99
| Iowa | 104.52
| Iron | 60.43
| Jackson | 80.98
| Jefferson | 135.75
| Juneau | 80.62
| Kenosha | 131.92
| Kewaunee | 113.95
| La Crosse | 87.60
| Lafayette | 128.19
| Langlade | 72.51
| Lincoln | 64.71
| Manitowoc | 138.24
| Marathon | 76.37
| Marinette | 79.48
| Marquette | 89.79
| Menominee | 33.65
| Milwaukee | 247.70
| Monroe | 83.96
| Oconto | 85.70
| Oneida | 109.72
| Outagamie | 138.04
| Ozaukee | 146.84
| Pepin | 86.06
| Pierce | 103.64
| Polk | 74.67
| Portage | 86.22
| Price | 49.79
| Racine | 142.72
| Richland | 78.86
| Rock | 144.62
| Rusk | 53.32
| St. Croix | 110.65
| Sauk | 101.64
| Sawyer | 60.03
| Shawano | 94.08
| Sheboygan | 137.29
| Taylor | 57.32
| Trempealeau | 83.73
| Vernon | 86.45
| Vilas | 140.17
| Walworth | 160.63
| Washburn | 65.01
| Washington | 152.74
| Waukesha | 170.94
| Waupaca | 100.59
| Waushara | 90.57
| Winnebago | 110.08
| Wood | 82.42
Wyoming | Albany | 9.42
| Big Horn | 25.57
| Campbell | 9.69
| Carbon | 9.42
| Converse | 6.32
| Crook | 14.86
| Fremont | 14.57
| Goshen | 13.02
| Hot Springs | 11.70
| Johnson | 10.17
| Laramie | 12.03
| Lincoln | 30.13
| Natrona | 10.44
| Niobrara | 8.98
| Park | 23.46
| Platte | 12.03
| Sheridan | 13.79
| Sublette | 22.52
| Sweetwater | 3.39
| Teton | 53.26
| Uinta | 12.31
| Washakie | 14.86
| Weston | 7.83
¹ Pursuant to Annual Charges for the Use of Government Lands, Order No. 774, 78 FR 5256 (January 25, 2013), FERC Stats. & Regs. ¶ 31,341 (2013) Commission-licensed projects occupying U.S. Federal lands in the Anchorage Area or Juneau Area will be charged at the Kenai Peninsula per-acre value.

[FR Doc. 2016-03809 Filed 2-23-16; 8:45 am]

BILLING CODE 6717-01-P